ENVIRONMENTAL PROTECTION AGENCY

40 CFR Part 52

[EPA-R04-OAR-2017-0500; FRL-9971-71-Region 4]

Air Plan Approval; Florida; Stationary Sources Emissions Monitoring; Reopening of Comment Period

AGENCY: Environmental Protection Agency (EPA).

ACTION: Proposed rule; reopening of public comment period.

SUMMARY: The Environmental Protection Agency (EPA) is reopening the comment period for a proposed rulemaking notice published in the Federal Register on October 13, 2017, which accompanied a direct final rulemaking published on the same date. The direct final rulemaking has been withdrawn due to the receipt of an adverse comment. In the October 13, 2017, proposed rulemaking, EPA proposed to approve a portion of a State Implementation Plan (SIP) revision submitted by the State of Florida, through the Florida Department of Environmental Protection (FDEP) on February 1, 2017, for the purpose of revising Florida's requirements and procedures for emissions monitoring at stationary sources. Additionally, the October 13, 2017, document included a proposed correction to remove a Florida Administrative Code (F.A.C.) rule that was previously approved for removal from the SIP in a separate action but was never removed. It was brought to EPA's attention that the February 1, 2017, state submittals and related materials were not accessible to the public through the electronic docket. The materials are now accessible in the electronic docket. EPA is reopening the comment period for an additional 30 days.

DATES: The comment period for the proposed rule published October 13, 2017 (82 FR 47662), reopened. Comments must be received on or before January 16, 2018. In a future final action based on the proposed rule, EPA will address all public comments received, including the adverse comment received on the direct final rule.

ADDRESSES: Submit your comments, identified by Docket ID No. EPA-R04-OAR-2017-0500 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Andres Febres, Air Regulatory Management Section, Air Planning and Implementation Branch, Air, Pesticides and Toxics Management Division, U.S. Environmental Protection Agency, Region 4, 61 Forsyth Street SW, Atlanta, Georgia 30303-8960. Mr. Febres can be reached via telephone at (404) 562-8966 or via electronic mail at febres-martinez.andres@epa.gov.

SUPPLEMENTARY INFORMATION: EPA published a proposed rulemaking on October 13, 2017 (82 FR 47662), which accompanied a direct final rulemaking published on the same date (82 FR 47636). The proposed revision includes amendments to three F.A.C. rule sections, as well as the removal of one F.A.C. rule section from the Florida SIP, in order to eliminate redundant language and make updates to the requirements for emissions monitoring at stationary sources. Additionally, the October 13, 2017, proposed rulemaking included a correction to remove an additional F.A.C. rule that was previously approved for removal from the SIP in a separate action but was never removed. It was brought to EPA's attention that the February 1, 2017, state submittals and related materials were not accessible to the public through the electronic docket. The materials are now accessible in the electronic docket. EPA is reopening the comment period for an additional 30 days.

Dated: November 21, 2017.
Onis “Trey” Glenn, III,
Regional Administrator, Region 4.

[FR Doc. 2017-26898 Filed 12-13-17; 8:45 am]

BILLING CODE 6560-50-P